ENVIRONMENTAL PROTECTION AGENCY

40 CFR Part 52

[EPA-R09-OAR-2021-0748; FRL-9217-01-R9]

Air Plan Approval; Arizona; Maricopa County Air Quality Department

AGENCY: Environmental Protection Agency (EPA).

ACTION: Proposed rule.

SUMMARY: The Environmental Protection Agency (EPA) is proposing to approve a revision to the Maricopa County Air Quality Department (MCAQD or County) portion of the Arizona State Implementation Plan (SIP). This revision concerns emissions of volatile organic compounds (VOCs). We are proposing action on rescissions of local rules that regulate these pollutants under the Clean Air Act (CAA or the Act). We are taking comments on this proposal and plan to follow with a final action.

DATES: Comments must be received on or before March 14, 2022.

ADDRESSES: Submit your comments, identified by Docket ID No. EPA-R09-OAR-2021-0748 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: La Kenya Evans, EPA Region IX, 75 Hawthorne St., San Francisco, CA 94105. By phone: (415) 972-3245 or by email at evans.lakenya@epa.gov.

SUPPLEMENTARY INFORMATION: Throughout this document, “we,” “us” and “our” refer to the EPA.

Table of Contents

I. The State's Submittal

A. What is the County rescinding?

B. What is the purpose of the rules and what is the impact of the EPA's rescission?

II. The EPA's Evaluation and Action

A. How is the EPA evaluating the request for rescission?

B. Do the rule rescissions meet the evaluation criteria?

C. Public Comment and Proposed Action

III. Incorporation by Reference

IV. Statutory and Executive Order Reviews

I. The State's Submittal

A. What is the County rescinding?

On September 13, 2017, the Arizona Department of Environmental Quality (ADEQ) submitted to the EPA a request from MCAQD to act on a series of rules from the SIP, including the rescission of various local rules. Table 1 lists the portion of the SIP approved rules from MCAQD's 2017 rescission request that the EPA is proposing to act on in this notice. The table includes the dates that the rules were adopted by the MCAQD and the dates they were approved into the SIP by the EPA.

Table 1—SIP Approved Rules
Rule No. | Title | Local adopted date | SIP approved date | FR citation
27 | Performance Tests | June 23, 1980 | April 12, 1982 | 47 FR 15579.
32 A | Odors and Gaseous Emissions (General prohibitions) | August 12, 1971 | July 27, 1972 | 37 FR 15080.
32 B | Odors and Gaseous Emissions (Treatment or processing of animal or vegetable matter) | August 12, 1971 | July 27, 1972 | 37 FR 15080.
32 C | Odors and Gaseous Emissions (Storage requirements) | August 12, 1971 | July 27, 1972 | 37 FR 15080.
32 D | Odors and Gaseous Emissions (Stack, vent, or other outlet) | August 12, 1971 | July 27, 1972 | 37 FR 15080.
32 E | Odors and Gaseous Emissions (Hydrogen sulfide) | August 12, 1971 | July 27, 1972 | 37 FR 15080.
32 F | Odors and Gaseous Emissions (Relating to sulfur oxide and sulfuric acid) | August 12, 1971 | July 27, 1972 | 37 FR 15080.
34 A | Organic Solvents-Volatile Organic Compounds (VOC) | June 23, 1980 | May 5, 1982 | 47 FR 19326.
34 D.1 | Dry Cleaning | June 23, 1980 | May 5, 1982 | 47 FR 19326.
34 E.1 | Spray Paint and Other Surface Coating Operations (General Requirements) | June 23, 1980 | May 5, 1982 | 47 FR 19326.
34 E.3 | Spray Paint and Other Surface Coating Operations (Architectural Coating) | June 23, 1980 | May 5, 1982 | 47 FR 19326.
34 L | Cutback Asphalt | June 23, 1980 | May 5, 1982 | 47 FR 19326.
81 | Operation | August 12, 1971 | July 27, 1972 | 37 FR 15080.
340 | Cutback and Emulsified Asphalt | September 13, 1988 | February 1, 1996 | 61 FR 3578.

On March 13, 2018, the submittal for MCAQD's rescission request was deemed by operation of law to meet the completeness criteria in 40 CFR part 51 Appendix V, which must be met before formal EPA review. The SIP-approved sections from Rules 32 and 34 not described in Table 1, along with other rules in this submittal, will be addressed in a separate rulemaking.

B. What is the purpose of the rules and what is the impact of the EPA's rescission?

MCAQD has revised many of its rules to comply with the CAA national ambient air quality standards (NAAQS) requirement to implement reasonably available control technology (RACT) for various source categories in nonattainment areas. These rules, including Rules 27, 32, 34, 81, and 340, were submitted to the EPA for incorporation into the Arizona SIP at various times. In 2016, the EPA reformatted the Arizona SIP as codified in the Code of Federal Regulations into a tabulated “notebook” format. While developing the updated SIP tables for that conversion, the EPA worked closely with the ADEQ and local air agencies to clarify what was in their applicable SIP, including older provisions that had not been updated or replaced to reflect local rulemakings. The result of that coordination was the MCAQD's September 13, 2017 request to rescind or replace many obsolete rules in their federally enforceable SIP in favor of rules that reflect their current locally enforceable rulebook. What follows is a summary of the rules that we are proposing for rescission.

Rule 27 states the need for performance testing within 60, but no later than 180, days after the initial start-up of sources or facilities.

Rule 32.A prohibits emitting gaseous or odorous emissions in such quantities as to cause air pollution. Rule 32.B covers treatment or processing of animal or vegetable matter and prohibits such operations unless all effluents from such operations have been incinerated under certain specified conditions. Rule 32.B also requires the use of control devices as necessary to prevent air pollution. Rule 32.C requires reasonable measures and installation of control devices to reduce emissions from evaporation, leakage or discharge from the processing, storage, use and transport of materials such as solvents, paints, acids, fertilizers and manure. Rule 32.D relates to nuisance effects from emissions on adjoining properties and authorizes the Control Officer to require abatement equipment or alterations to the stack to reduce nuisance impacts. Rule 32.E establishes a property line concentration standard for hydrogen sulfide. Rule 32.F establishes ambient air standards for any sulfur oxide and sulfuric acid ground level concentrations beyond the premises of a facility. Rule 32.F was superseded by Rule 510 (86 FR 54628, October 04, 2021). The remainder of Rule 32 (sections G, H, J, and K) are not addressed in this rulemaking.

Rule 34.A defines the term volatile organic compound. Rule 34.D.1 describes the operating requirements for dry cleaning equipment using chlorinated synthetic solvents. Rule 34.E.1 describes the requirements for containing overspray from surface coating operations. Rule 34.E.3 defines architectural coating. Rule 34.L limits the application of cutback asphalt or an emulsified asphalt containing petroleum solvents. In addition, the rule limits the VOC content of the emulsified asphalts and dust palliatives to no more than three percent (3%) by volume of VOC. Rule 34.L was superseded by Rule 340. The remainder of Rule 34 (sections B, C, D.2, E, E.2, E.4, F, G, H, I, J, and K) are not addressed in this rulemaking.

Rule 81 states that no other provision of the County's rulebook shall in any manner be constructed as authorizing or permitting the creation or maintenance of a nuisance.

Rule 340 regulates cutback and emulsified asphalt and replaced Rule 34.L in 1988 after the MCAQD revised and renumbered all of their local rules.

The EPA's technical support document (TSD) has more information about these rules.

II. The EPA's Evaluation and Action

A. How is the EPA evaluating the request for rescission?

Once a rule has been approved as part of a SIP, the rescission of that rule from the SIP constitutes a SIP revision. To approve such a revision, the EPA must determine whether the revision meets relevant CAA criteria for stringency, if any, and complies with restrictions on relaxation of SIP measures under CAA section 110(l), and the General Savings Clause in CAA section 193 for SIP-approved control requirements in effect before November 15, 1990.

Stringency: Generally, rules must be protective of the NAAQS, and must require RACT in nonattainment areas for ozone. Maricopa County is currently designated as nonattainment for ozone and classified as Moderate for the 2008 8-hour NAAQS (see 40 CFR 81.303, 81 FR 26699).

Plan Revisions: States must demonstrate that SIP revisions would not interfere with attainment, reasonable further progress or any other applicable requirement of the CAA under the provisions of CAA section 110(l) and section 193.

Guidance and policy documents that we used to evaluate enforceability, revision/relaxation and rule stringency requirements for the applicable criteria pollutants include the following:

1. “State Implementation Plans; General Preamble for the Implementation of Title I of the Clean Air Act Amendments of 1990,” 57 FR 13498 (April 16, 1992); 57 FR 18070 (April 28, 1992).

B. Do the rule rescissions meet the evaluation criteria?

We have concluded that the rules in Table 1 are appropriate for rescission. The reasons for the rule rescissions are described in the following categories:

Category 1—Rules that do not establish emission limits or enforce the NAAQS; rules that do not improve or impact the stringency of other measures in the SIP and are not appropriate for the SIP: Rules 27, 32.A, B, C, D, and E, 34.D.1 and E.3, and 81.

Category 2—Rules that have a negative declaration stating that the facilities they covered are no longer located in Maricopa County: Rules 34.L and 340.

Category 3—Rules that have been superseded by a newer SIP-approved rule and are no longer needed in the SIP: Rules 32.F and 34.A.

Category 4—Rules that are not enforceable: Rule 34E.1.

These rules address local issues but are not connected to the purposes for which SIPs are developed and approved—namely the implementation, maintenance, and enforcement of the NAAQS. Thus, they are not required to be included in the SIP.¹ The TSD has more information on our evaluation.

¹ See CAA section 110(a)(1).

C. Public Comment and Proposed Action

As authorized in section 110(k)(3) of the Act, the EPA proposes to fully approve the requested rescission of the rules because the request fulfills all relevant requirements. We will accept comments from the public on this proposal until March 14, 2022. If we take final action to approve the rescission of the submitted rules, our final action will remove these rules from the federally enforceable SIP.

III. Incorporation by Reference

In this action, the EPA is proposing to delete rules that were previously incorporated by reference from the applicable Arizona SIP. In accordance with requirements of 1 CFR 51.5, the EPA is proposing to delete certain Maricopa County rules, as described in Table 1 of this preamble. The EPA has made, and will continue to make, incorporation by reference documents generally available electronically through www.regulations.gov and/or in hard copy at the appropriate EPA office (see the ADDRESSES section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Particulate matter, Reporting and recordkeeping requirements, Sulfur dioxide, Volatile organic compounds.

Authority: 42 U.S.C. 7401 et seq.

Dated: February 2, 2022.
Martha Guzman Aceves,
Regional Administrator, Region IX.

[FR Doc. 2022-02570 Filed 2-9-22; 8:45 am]

BILLING CODE 6560-50-P